DEPARTMENT OF STATE

[Public Notice 6947]

Bureau of Oceans and International Environmental Scientific Affairs; Climate Action Report

AGENCY: Department of State.

ACTION: Notice; request for public comments.

SUMMARY: The purpose of this announcement is to notify interested members of the public of the opportunity to submit comments to the draft fifth National Communication on U.S. climate change actions for the United Nations Framework Convention on Climate Change (UNFCCC). In June 1992, the United States signed, and later ratified, the UNFCCC. Pursuant to the national communication reporting requirements under Articles 4.2 and 12 of the Convention and to guidelines later adopted by the UNFCCC Conference of the Parties (COP), the United States submitted the first U.S. Climate Action Report (CAR) to the UNFCCC Secretariat in 1994, and subsequent reports in 1997, 2002, and 2006. The U.S. Government has prepared an initial draft of the fifth National Communication for public review. This report reflects the U.S. Government commitment to the UNFCCC to transparently communicate U.S. actions and policies addressing climate change. See SUPPLEMENTARY INFORMATION for instructions on accessing the electronic version of the report, file format requirements for submitting comments, and other information about electronic filing.

DATES: The agency must receive comments on or before noon, May 6th, 2010.

ADDRESSES: Comments should be submitted via e-mail to CAR5@state.gov. Submit comments as an ASCII or word file avoiding the use of special characters and any form of encryption. Identify all comments and data in electronic form by the docket number [docket number].

Additionally, comments may be sent via postal mail to: CAR5 Comments, Department of State, Office of Global Change, Harry S. Truman Building, Room 2480, 2201 “C” Street, NW., Washington, DC 20520 or via fax to: (202) 647-0191. Comments will be due within 28 days of publication date. Persons with access to the Internet may also view and comment on this notice by going to the U.S. Government Regulations.Gov Web site at http://www.regulations.gov/search/Regs/home.html#home.

FOR FURTHER INFORMATION CONTACT: Mr. Eric J. Maltzer, Office of Global Change, U.S. Department of State at (202) 647-6740.

SUPPLEMENTARY INFORMATION: The draft Fifth CAR provides a detailed report on U.S. actions to address climate change. This report contains descriptions of specific measured and verified actions, outlines of broad policy initiatives, and summaries of activities conducted by the U.S. since the fourth CAR, principally at the federal level. It also explains U.S. Government efforts to increase scientific understanding of climate change, and provide foreign assistance to help other nations mitigate and adapt to the effects of climate change.

Table of Contents of the draft Fifth U.S. CAR

1. Introduction and overview

2. National circumstances

3. Greenhouse gas inventory

4. Policies and measures

5. Projected greenhouse gas emissions

6. Vulnerability assessment, climate change impacts, and adaptation measures

7. Financial resources and transfer of technology

8. Research and systematic observation

9. Education, training, and outreach

Public Input Process

This Federal Register notice solicits comments on the draft chapters listed above. The individual chapters are posted on the Internet and may be downloaded from the following Web site: http://www.state.gov/g/oes/rls/rpts/car/index.htm.

April 2, 2010.
Trigg Talley,
Director, Office of Global Change, Department of State.

[FR Doc. 2010-7972 Filed 4-7-10; 8:45 am]

BILLING CODE 4710-09-P